DEPARTMENT OF DEFENSE

Department of the Army, Corps of Engineers

Process for Requesting a Variance From Vegetation Standards for Levees and Floodwalls

AGENCY: U.S. Army Corps of Engineers, DoD.

ACTION: Extension of public comment period.

SUMMARY: In the February 9, 2010 issue of the Federal Register (75 FR 6364), the U.S. Army Corps of Engineers (Corps), published its proposed update to its current process for requesting a variance from vegetation standards for levees and floodwalls for public comment. In that notice, the Corps stated that written comments must be submitted on or before March 11, 2010. Instructions for submitting comments are provided in the February 9, 2010, Federal Register notice. In response to several requests, the Corps has decided to extend the public comment period to April 25, 2010.

FOR FURTHER INFORMATION CONTACT: Douglas J. Wade, Headquarters, Engineering and Construction Community of Practice, Washington, DC, at 202-761-4668.

SUPPLEMENTARY INFORMATION: None.

Dated: March 5, 2010.
John W. Hunter,
Engineering and Construction, Headquarters, U.S. Army Corps of Engineers.

[FR Doc. 2010-5126 Filed 3-9-10; 8:45 am]

BILLING CODE 3720-58-P